DEPARTMENT OF TRANSPORTATION

National Highway Traffic Safety Administration

Petition for Exemption From the Federal Motor Vehicle Theft Prevention Standard; Maserati North America, Inc.

AGENCY: National Highway Traffic Safety Administration (NHTSA), Department of Transportation (DOT).

ACTION: Grant of petition for exemption.

SUMMARY: This document grants in full the Maserati North America, Inc.'s, (Maserati) petition for an exemption of the Levante sports utility vehicle (SUV) line in accordance with 49 CFR part 543, Exemption from Vehicle Theft Prevention Standard. This petition is granted because the agency has determined that the antitheft device to be placed on the line as standard equipment is likely to be as effective in reducing and deterring motor vehicle theft as compliance with the parts-marking requirements of the 49 CFR part 541, Federal Motor Vehicle Theft Prevention Standard (Theft Prevention Standard).

DATES: The exemption granted by this notice is effective beginning with the 2017 model year (MY).

FOR FURTHER INFORMATION CONTACT: Ms. Deborah Mazyck, Office of International Policy, Fuel Economy and Consumer Programs, NHTSA, W43-443, 1200 New Jersey Avenue SE., Washington, DC 20590. Ms. Mazyck's phone number is (202) 366-4139. Her fax number is (202) 493-2990.

SUPPLEMENTARY INFORMATION: In a petition dated October 23, 2015, Maserati requested an exemption from the parts-marking requirements of the Theft Prevention Standard for the Levante vehicle line beginning with MY 2017. The petition requested an exemption from parts-marking pursuant to 49 CFR part 543, Exemption from Vehicle Theft Prevention Standard, based on the installation of an antitheft device as standard equipment for the entire vehicle line.

Under 49 CFR part 543.5(a), a manufacturer may petition NHTSA to grant an exemption for one vehicle line per model year. In its petition, Maserati provided a detailed description and diagram of the identity, design, and location of the components of the antitheft device for the Levante vehicle line. Maserati stated that beginning with the 2017 model year, its Levante vehicles will be equipped with a passive, antitheft device as standard equipment. Specifically, the device will consist of a vehicle alarm system (VTA), a remote keyless entry (RKE) system and a sentry key immobilizer system (SKIS). Key components of Maserati's antitheft device are a siren and/or horn, hood ajar switch, security indicator, RFHub/Keyless Ignition Node (KIN) and Key fob (FOBIK), Intrusion and Inclination Sensor, Door Ajar Switches, Intrusion Module, Central Body Controller, RKE and the SKIS. Maserati also informed the agency that an audible and visual vehicle alarm system (VTA) has been incorporated into the device to provide perimeter protection that will monitor the vehicle's doors, tailgate, ignition switch, interior vehicle intrusion and inclination sensors against unauthorized use or tampering. Maserati further stated that if unauthorized use or tampering with any of these protected areas is detected, the vehicle's horn/siren will sound and the exterior lamps will flash.

Maserati further stated that activation of its immobilizer device is automatically achieved when the ignition is turned from the “run” position to the “off” position. Once activated, only the use of a valid key can disable immobilization and allow the vehicle to run. Maserati stated that the device is deactivated by performing an unlock actuation via the RKE transmitter or by starting the vehicle with a valid RFHub key. Specifically, Maserati stated that to start the vehicle, the driver must press and hold the brake pedal while pressing the START/STOP button. The system takes over and engages the starter causing the starter motor to run and automatically disengage while the engine is running. Maserati also stated that the RFHub contains and controls the SKIS preventing the engine from running more than 2 seconds unless a valid FOBIK key is used to start the engine. Maserati stated that the vehicle's key fob with RKE transmitter, RFHub and the KIN contains over 50,000 possible electronic key combinations and allows the driver to operate the ignition switch with the push of a button as long as the RKE transmitter is in the passenger compartment.

Maserati's submission is considered a complete petition as required by 49 CFR 543.7, in that it meets the general requirements contained in § 543.5 and the specific content requirements of § 543.6.

In addressing the specific content requirements of 543.6, Maserati provided information on the reliability and durability of its proposed device. To ensure reliability and durability of the device, Maserati conducted tests based on its own specified standards. Maserati provided a detailed list of the tests conducted (i.e., thermal temperature exposure on system components, resistance for humidity, ice, water immersion, dust exposure, drop shock on surfaces and topical applications to detect deterioration of key fob materials). Maserati stated that the VTA, including the immobilizer device and its related components must meet design and durability requirements for full vehicle useful life (10 years/120k miles). Maserati also stated that it believes that its device is reliable and durable because it complied with specified requirements for each test.

Maserati compared its proposed device to the immobilizer antitheft device that has been installed on its Quattroporte and Ghibli vehicles as standard equipment since MY 2007. Maserati stated that the antitheft device proposed for installation on the Levante vehicle line will be identical to the antitheft device installed on its Quattroporte and Ghibli vehicle lines. Maserati further stated that the Levante vehicle line will incorporate identical vehicle/system architecture, powertrain, electrical and other vehicle systems similar in construction and design to the Quattroporte and Ghibli vehicle lines. The agency granted the petition for the Quattroporte vehicle line in full beginning with MY 2014, (see 78 FR 24304, April 24, 2013) and the Ghibli vehicle line beginning with the 2016 model year (see 80 FR 20065, April 14, 2015). Theft rate data reported in Federal Register notices published by the agency show that the theft rate for the Quattroporte vehicle line, using an average of three MYs' data (2011-2013) is 1.4684, which is significantly lower than the median theft rate established by the agency. There is no available theft rate data for the Ghibli vehicle line. Maserati believes that the low theft rate experienced by the Quattroporte vehicle line demonstrates the effectiveness of the proposed immobilizer device to be installed on the Levante vehicle line. Maserati further stated that historically, the Maserati vehicles that have been equipped with an antitheft device have experienced extremely low to zero theft rates as indicated by previous theft rate data published by NHTSA. Maserati also stated its belief that the advanced technology antitheft device it proposes to install on its Levante vehicle line is comparable in functionality and operation to other manufacturer's advanced antitheft devices that are currently installed and have been granted an exemption from the partsmarking requirements of the Theft Prevention Standard.

Based on the supporting evidence submitted by Maserati on the antitheft device, the agency believes that the antitheft device for the Levante vehicle line is likely to be as effective in reducing and deterring motor vehicle theft as compliance with the parts-marking requirements of the Theft Prevention Standard (49 CFR part 541).

Pursuant to 49 U.S.C. 33106 and 49 CFR 543.7(b), the agency grants a petition for exemption from the parts-marking requirements of Part 541 either in whole or in part, if it determines that, based upon substantial evidence, the standard equipment antitheft device is likely to be as effective in reducing and deterring motor vehicle theft as compliance with the parts-marking requirements of Part 541. The agency finds that Maserati has provided adequate reasons for its belief that the antitheft device for the Levante vehicle line is likely to be as effective in reducing and deterring motor vehicle theft as compliance with the parts-marking requirements of the Theft Prevention Standard (49 CFR part 541). This conclusion is based on the information Maserati provided about its device.

The agency concludes that the device will provide the five types of performance listed in § 543.6(a)(3): promoting activation; attracting attention to the efforts of unauthorized persons to enter or operate a vehicle by means other than a key; preventing defeat or circumvention of the device by unauthorized persons; preventing operation of the vehicle by unauthorized entrants; and ensuring the reliability and durability of the device.

For the foregoing reasons, the agency hereby grants in full Maserati's petition for exemption for its Levante sports utility vehicle line from the parts-marking requirements of 49 CFR part 541. The agency notes that 49 CFR part 541, Appendix A-1, identifies those lines that are exempted from the Theft Prevention Standard for a given model year. 49 CFR part 543.7(f) contains publication requirements incident to the disposition of all Part 543 petitions. Advanced listing, including the release of future product nameplates, the beginning model year for which the petition is granted and a general description of the antitheft device is necessary in order to notify law enforcement agencies of new vehicle lines exempted from the parts-marking requirements of the Theft Prevention Standard.

If Maserati decides not to use the exemption for this line, it must formally notify the agency. If such a decision is made, the line must be fully marked according to the requirements under 49 CFR parts 541.5 and 541.6 (marking of major component parts and replacement parts).

NHTSA notes that if Maserati wishes in the future to modify the device on which this exemption is based, the company may have to submit a petition to modify the exemption. Part 543.7(d) states that a Part 543 exemption applies only to vehicles that belong to a line exempted under this part and equipped with the antitheft device on which the line's exemption is based. Further, Part 543.9(c)(2) provides for the submission of petitions “to modify an exemption to permit the use of an antitheft device similar to but differing from the one specified in that exemption.”

The agency wishes to minimize the administrative burden that Part 543.9(c)(2) could place on exempted vehicle manufacturers and itself. The agency did not intend in drafting Part 543 to require the submission of a modification petition for every change to the components or design of an antitheft device. The significance of many such changes could be de minimis. Therefore, NHTSA suggests that if the manufacturer contemplates making any changes, the effects of which might be characterized as de minimis, it should consult the agency before preparing and submitting a petition to modify.

Issued in Washington, DC Under authority delegated in 49 CFR part 1.95
Raymond R. Posten,
Associate Administrator for Rulemaking.

[FR Doc. 2015-32185 Filed 12-22-15; 8:45 am]

BILLING CODE 4910-59-P